DEPARTMENT OF ENERGY

Federal Energy Regulatory Commission

[Docket No. AD06-6-000]

Joint Meeting of the Nuclear Regulatory Commission and the Federal Energy Regulatory Commission; Notice of Joint Meeting of the Nuclear Regulatory Commission and the Federal Energy Regulatory Commission

February 29, 2008.

The Federal Energy Regulatory Commission (FERC) and the Nuclear Regulatory Commission (NRC) will hold a joint meeting on April 8, 2008 at the headquarters of the Federal Energy Regulatory Commission, 888 First Street, NE., Washington, DC 20426. The meeting is expected to begin at 10 a.m. and conclude at 12 noon (EST).

Purpose of the Meeting

The NRC and FERC signed a Memorandum of Agreement on September 1, 2004, to facilitate interactions between the two agencies on matters of mutual interest pertaining to the nation's bulk power system reliability. Since signing this agreement, the two agencies have met on April 24, 2006, and January 23, 2007, to engage in dialogue to further the goals of this Memorandum of Agreement. These goals included grid reliability issues and the roles of the respective agencies in addressing these issues.

Format for Joint Meeting of Commissions

The format for the joint meeting will be discussions between the two sets of Commissioners following presentations by their respective staffs. In addition, representatives of the North American Electric Reliability Council (NERC) and the U.S. Department of Energy (DOE) may attend and participate in this meeting.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. Visit http://www.CapitolConnection.org or contact Danelle Perkowski or David Reininger the Capitol Connection at 703-993-3100 for information about this service.

Transcripts of the conference will be immediately available from Ace Reporting Company (202-347-3700 or 1-800-336-6646) for a fee. They will be available for the public on the Commission's eLibrary system seven calendar days after FERC receives the transcript.

Commission conferences are accessible under section 508 of the Rehabilitation Act of 1973. For accessibility accommodations please send an e-mail to accessibility@ferc.gov or call toll free 1-866-208-3372 (voice) or 202-502-8659 (TTY), or send a FAX to 202-208-2106 with the required accommodations.

All interested persons are invited. Pre-registration is not required and there is no fee to attend this joint meeting. Questions about the meeting should be directed to Sarah McKinley at Sarah.McKinley@ferc.gov or by phone at 202-502-8004.

Kimberly D. Bose,
Secretary.

[FR Doc. E8-4500 Filed 3-6-08; 8:45 am]

BILLING CODE 6717-01-P